FEDERAL COMMUNICATIONS COMMISSION

47 CFR Part 76

[CS Docket No. 96-85, FCC 02-117]

Implementation of Cable Act Reform Provisions of the Telecommunications Act of 1996

AGENCY: Federal Communications Commission.

ACTION: Final rule.

SUMMARY: In this document, the Commission addresses petitions for reconsideration or clarification regarding certain decisions in this proceeding. It affirms its earlier decisions and denies the petitions. This action by the Commission implements the cable reform provisions of the Telecommunications Act of 1996.

FOR FURTHER INFORMATION CONTACT: Thomas L. Horan, Media Bureau, 202-418-7200.

SUPPLEMENTARY INFORMATION: This is a summary of the Commission's Order on Reconsideration, FCC 02-117, adopted on April 16, 2002 and released on April 22, 2002. The full text of this Order on Reconsideration is available for inspection and copying during normal business hours in the FCC Reference Center, Room CY-A257, 445 12th Street, SW., Washington, DC 20554 or may be downloaded at www.fcc.gov. The Order may be purchased from the Commission's copy contractor, Qualex International, 445 12th Street, SW., Room CY-B402, Washington, DC, 20554, telephone 202-863-2893, facsimile 202-863-2898, or via e-mail qualexint@aol.com.

In the Report and Order (“R&O”), 64 FR 35948, July 2, 1999, in this proceeding, the Commission adopted rules to implement the cable reform provisions of the Telecommunications Act of 1996. This Order on Reconsideration addresses and subsequently denies petitions for reconsideration or clarification regarding certain of our decisions in the R&O. The major decisions in the Order on Reconsideration are as follows:

• The Commission reiterates that a Local Franchising Authority (“LFA”) may establish and enforce requirements for facilities and equipment pursuant to the franchising and renewal provisions of the statute consistent with the statutory directive that forbids an LFA from directing the use of particular transmission technologies.

• The Commission reaffirms that bulk discounts should not be premised on a cable operator's exclusive access to all residents.

• The Commission reaffirms its prior decision that truly passive investments should be excluded when determining whether an entity is affiliated with a cable operator for purposes of the small cable operator rate rules

• The Commission reiterates that when determining if there is effective competition by a local exchange carrier, the Commission will make a fact-specific finding in each case.

Ordering Clause

It is ordered that, pursuant to section 405 of the Communications Act of 1934, as amended, 47 U.S.C. 405, and section 1.106 of the Commission's rules, 47 CFR 1.106, the petitions for reconsideration or clarification are denied.

List of Subjects in 47 CFR Part 76

Cable television.

Federal Communications Commission.
Marlene H. Dortch,
Secretary.

[FR Doc. 02-15082 Filed 6-13-02; 8:45 am]

BILLING CODE 6412-01-P